DEPARTMENT OF DEFENSE

Defense Acquisition Regulation System

[Docket No. DARS-2012-0015-0002]

Submission for OMB Review; Comment Request

ACTION: Notice.

The Defense Acquisition Regulations System has submitted to OMB for clearance, the following proposals for collection of information under the provisions of the Paperwork Reduction Act (44 U.S.C. chapter 35).

DATES: Consideration will be given to all comments received by April 16, 2012.

Title, Associated Forms and OMB Number: Defense Federal Acquisition Regulation Supplement (DFARS) Business Systems-Definition and Administration; DFARS 234, Earned Value Management Systems, OMB Control Number 0704-0479; and Defense Federal Acquisition Regulation Supplement (DFARS) Business Systems-Definition and Administration; DFARS 245, Contractors Property Management System, OMB Control Number 0704-0480.

Type of Request for 0704-0479: Extension.

Number of Respondents for 0704-0479: 186.

Responses per Respondent for 0704-0479: 48.

Annual Responses for 0704-0479: 8,928.

Average Burden per Response for 0704-0479: 40 hours.

Annual Burden Hours for 0704-0479: 357,120.

Type of Request for 0704-0480: Extension.

Number of Respondents for 0704-0480: 2,646.

Responses per Respondent for 0704-0480: 1.

Annual Responses for 0704-0480: 2,646.

Average Burden per Response for 0704-0480: 1.2 hours.

Annual Burden Hours for 0704-0480: 3,200.

Needs and Uses: a. DFARS 242.70, Contractor Business Systems, and the clauses at 252.242-7005, Contractor Business Systems, 252.234-7002, Earned Value Management Systems, and 252.245-7003, Contractor Property Management System Administration, require certain contractors to establish and maintain acceptable business systems which include contractor Earned Value Management Systems and property management systems, and respond in writing to an initial determination from the administrative contracting officer that identifies deficiencies in any of the contractor's business systems, as well as written notifications from the Government that identifies deficiencies in the contractor's business systems.

Affected Public: The business systems clause will be used in solicitations and contracts that include DFARS clause 252.234-7002, Earned Value Management System, or 252.245-7003, Contractor Property System Administration.

Frequency: On occasion.

Respondent's Obligation: Required to obtain or maintain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number, and title for the Federal Register document. The general policy for comments and other public submissions from members of the public is to make these submissions available for public viewing on the Internet at http://www.regulations.gov as they are received without change, including any personal identifiers or contact information provided. To confirm receipt of your comment(s), please check http://www.regulations.gov approximately two to three days after submission to verify posting (except allow 30 days for posting of comments submitted by mail).

DoD Clearance Officer: Ms. Patricia Toppings.

Written requests for copies of the information collection proposal should be sent to Ms. Toppings at WHS/ESD/Information Management Division, 4800 Mark Center Drive, 2nd Floor, East Tower, Suite 02G09, Alexandria, VA 22350-3100.

Ynette R. Shelkin,
Editor, Defense Acquisition Regulations System.

[FR Doc. 2012-6255 Filed 3-15-12; 8:45 am]

BILLING CODE 5001-06-P